SECURITIES AND EXCHANGE COMMISSION

17 CFR Parts 260 and 274

[Release Nos. 33-8230, 34-47809, 35-27674, IC-26044; File No. S7-52-02]

RIN 3235-AI26

Mandated Electronic Filing and Web Site Posting for Forms 3, 4 and 5

Correction

In rule document 03-11824 beginning on page 25788 in the issue of Tuesday, May 13, 2003, make the following corrections:

PART 260—[CORRECTED]

1. On page 25800, in the first column, after amendatory instruction 21., in the authority citation, in the second line, “78ll1(d)” should read, “78ll(d).”

PART 274—[CORRECTED]

2. On page 25801, in the third column, in paragraph (a), after the sixth line, before the Note, insert “

* * * * *

.”

3. On page 25802, in the second column, after paragraph (c), before Form 4, insert “

* * * * *

.”

4. On the same page, in the same column, after line 2 of Item 4., before Table 1, insert “

* * * * *

.”

[FR Doc. C3-11824 Filed 6-19-03; 8:45 am]

BILLING CODE 1505-01-D